DEPARTMENT OF HEALTH AND HUMAN SERVICES

Indian Health Service

Office of Direct Service and Contracting Tribes; National Indian Health Outreach and Education Funding Opportunity

Announcement Type: New Limited Competition.

Funding Announcement Number: HHS-2013-IHS-NIHOE-0003.

Catalog of Federal Domestic Assistance Number: 93.933.

Key Dates

Application Deadline Date: September 21, 2013.

Review Date: September 23, 2013.

Earliest Anticipated Start Date: September 30, 2013.

Proof of Non-Profit Status Due Date: September 23, 2013.

I. Funding Opportunity Description

Statutory Authority

The Indian Health Service (IHS) is accepting competitive applications for the Office of Direct Service and Contracting Tribes (ODSCT) cooperative agreement for the National Indian Health Outreach and Education (NIHOE) III funding opportunity that includes outreach and education activities on the following: the Patient Protection and Affordable Care Act, Public Law 111-148 (PPACA), as amended by the Health Care and Education Reconciliation Act of 2010, Public Law 111-152, collectively known as the Affordable Care Act, and the Indian Health Care Improvement Act (IHCIA), as amended. This program is authorized under: the Snyder Act, codified at 25 U.S.C. 13, and the Transfer Act, codified at 42 U.S.C. 2001(a). This program is described in the Catalog of Federal Domestic Assistance under 93.933.

Background

The NIHOE—III programs carry out health program objectives in the American Indian/Alaska Native (AI/AN) community in the interest of improving the quality of and access to health care for all 566 Federally-recognized Tribes including Tribal governments operating their own health care delivery systems through self-determination contracts and compacts with the IHS and Tribes that continue to receive health care directly from the IHS. This program addresses health policy and health programs issues and disseminates educational information to all AI/AN Tribes and villages. These awards require that public forums be held at Tribal educational consumer conferences to disseminate changes and updates on the latest health care information. These awards also require that regional and national meetings be coordinated for information dissemination as well as for the inclusion of planning and technical assistance and health care recommendations on behalf of participating Tribes to ultimately inform IHS and the Department of Health and Human Services (HHS) based on Tribal input through a broad based consumer network. The IHS also provides health and related services through grants and contracts with urban Indian organizations to reach AI/ANs residing in urban communities.

Purpose

The purpose of this IHS cooperative agreement announcement is to encourage national Indian organizations and IHS, Tribal, and Urban (I/T/U) partners to work together to conduct Affordable Care Act/IHCIA training and technical assistance throughout Indian Country. Under the Limited Competition NIHOE Cooperative Agreement program, the overall program objective is to improve Indian health care by conducting training and technical assistance across AI/AN communities to ensure that the Indian health care system and all AI/ANs are prepared to take advantage of the new health insurance coverage options which will improve the quality of and access to health care services, and increase resources for AI/AN health care. The goal of this program announcement is to coordinate and conduct training and technical assistance on a national scale for the 566 Federally-recognized Tribes, and Tribal organizations on the changes, improvements and authorities of the Affordable Care Act and IHCIA in anticipation of the Health Insurance Marketplace October 1, 2013 open enrollment date and coverage start date of January 1, 2014. This collaborative effort will benefit I/T/U as well as the AI/AN communities including Tribal and urban populations and elders/seniors.

Limited Competition Justification

Competition for the award included in this announcement is limited to national Indian organizations with at least ten years of experience providing training, education and outreach on a national scale. This limitation ensures that the awardee will have (1) a national information-sharing infrastructure which will facilitate the timely exchange of information between the HHS and Tribes and Tribal organizations on a broad scale; (2) a national perspective on the needs of AI/AN communities that will ensure that the information developed and disseminated through the projects is appropriate, useful and addresses the most pressing needs of AI/AN communities; and (3) established relationships with Tribes and Tribal organizations that will foster open and honest participation by AI/AN communities. Regional or local organizations will not have the mechanisms in place to conduct communication on a national level, nor will they have an accurate picture of the health care needs facing AI/ANs nationwide. Organizations with less experience will lack the established relationships with Tribes and Tribal organizations throughout the country that will facilitate participation and the open and honest exchange of information between Tribes and HHS. With the limited funds available for these projects, HHS must ensure that the training, education and outreach efforts described in this announcement reach the widest audience possible in a timely fashion, are appropriately tailored to the needs of AI/AN communities throughout the country, and come from a source that AI/ANs recognize and trust. For these reasons, this is a limited competition announcement.

II. Award Information

Type of Award Cooperative Agreement. The IHS will accept applications for either one of the following: A. Two entities collaborating and applying as one entity. B. Two entities applying separately to accomplish appropriately divided program activities.

Estimated Funds Available

The total amount of funding identified for the current fiscal year (FY) 2013 is approximately $1,043,923.00. Individual award amounts are anticipated to be $300,000 and $743,923, respectively if awarded to two entities applying separately; $1,043,923 if awarded to two entities applying as one entity. $143,923 is set aside for a sub award to address outreach and education efforts specific to urban Indian health. Further details are provided in the applicable section components. Competing and continuation awards issued under this announcement are subject to the availability of funds. In the absence of funding, the IHS is under no obligation to make awards that are selected for funding under this announcement.

Optional approach allowed for applying for the $1,043,923:

1. First Option: If two entities are collaborating to apply for $1,043,923 as one entity, then funding will be divided as follows: one entity will be allowed $743,923 and be responsible for issuing a subaward in the amount of $143,923 for addressing Urban Indian Health activities.

The second entity will be allowed $300,000 for carrying out the remainder of the activities.

2. Second Option: If two entities are applying separately, then one entity will apply for $743,923 and be responsible for issuing a subaward in the amount of $143,923 for addressing Urban Indian Health activities. The second entity will apply for the remaining $300,000.

Anticipated Number of Awards

Approximately one to two awards will be issued under this program announcement.

Project Period

The project period will be for one year and will run consecutively from September 30, 2013 to September 29, 2014.

Cooperative Agreement

Cooperative agreements awarded by HHS are administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

(1) The IHS assigned program official will work in partnership with the awardee in all decisions involving strategy, hiring of consultants, deployment of resources, release of public information materials, quality assurance, coordination of activities, any training activities, reports, budget and evaluation. Collaboration includes data analysis, interpretation of findings and reporting.

(2) The IHS assigned program official will approve the training curriculum content, facts, delivery mode, pre- and post-assessments, and evaluation before any materials are printed and the training is conducted.

(3) The IHS assigned program official will review and approve all of the final draft products before they are published and distributed.

B. Grantee Cooperative Agreement Award Activities

The awardee must comply with relevant Office of Management and Budget (OMB) Circular provisions regarding lobbying, any applicable lobbying restrictions provided under other law, and any applicable restriction on the use of appropriated funds for lobbying activities.

(1) Foster collaboration across the Indian health care system to encourage and facilitate an open exchange of ideas and open communication regarding training and technical assistance on the Affordable Care Act and IHCIA provisions.

(2) Conduct training and technical assistance on the Affordable Care Act and IHCIA and the changes and requirements that will affect AI/ANs either independently or jointly via a partnership as described previously. The purpose of this IHS cooperative agreement announcement is to encourage national and regional Indian organizations and IHS, Tribal, and Urban (I/T/U) partners to work together to conduct Affordable Care Act/IHCIA training and technical assistance throughout Indian Country. The project goals are three-fold for the IHS and the selected entities:

1. Materials—Develop and disseminate (upon IHS approval) training materials about the Affordable Care Act/IHCIA impact on the Indian health care system including: educating consumers on the health care insurance options available, educating the I/T/U system on the process for enrollment (with a special focus on the Certified Application Counselor (CAC) and Hardship Waiver requirements) and eligibility determinations, and maximizing revenue opportunities.

2. Training—Develop and implement an Affordable Care Act/IHCIA implementation training plan and individual training sessions aimed at educating all Indian health care system stakeholders on health care system impact and changes, specifically implementation in the different types of Marketplaces, the role of Health Insurance Marketplace assisters (special emphasis on CAC, and the Hardship Waiver for AI/ANs. Collaborate and partner with other national organizations to identify ways to take full advantage of the health care coverage options offered through the Health Insurance Marketplace with coverage beginning on January 1, 2014.

3. Technical Assistance—Provide technical assistance to I/T/Us on the Affordable Care Act/IHCIA implementation. Work with these entities to assess the training needs, identify innovations in Affordable Care Act/IHCIA implementation, and promote the dissemination and replication of solutions to the challenges faced by I/T/Us in implementing the Affordable Care Act/IHCIA.

Office of Resource, Access and Partnerships (ORAP)

$300,000—for Implementation of the Affordable Care Act—Training and Technical Assistance: This is to include, but not be limited to, a focus on effective training and technical assistance efforts in implementing the Affordable Care Act/IHCIA across the Indian health care system (I/T/U) with emphasis on preparing I/T/Us to work with States and/or the Federal government in State-based Marketplace (SBM), a State Partnership Marketplace (SPM), or a Federally-Facilitated Marketplace (FFM).

A. Develop an Affordable Care Act/IHCIA Training for the Indian Health Care System (I/T/U)

1. Review, compile and evaluate all available Affordable Care Act/IHCIA training materials specific to AI/ANs and report findings as it relates to the Indian health care system.

2. Based on findings, develop a “train the trainer” training curriculum for all I/T/U staff to be implemented before December 31, 2013. Training will complement the Federal CAC training and certification process and focus on the Affordable Care Act “Indian” specific provisions and/or IHCIA regulations and the impact on the Indian health care system. Through the training, specifically address the Certified Application Counselor (CAC) and Hardship Waiver requirements.

3. Develop an evaluation for the curriculum training that assesses content and participant knowledge learning and provide a certificate of completion for participants. Develop a tracking system for the number of certificates awarded. Conduct preliminary training sessions, track attendance and submit such data along with a summary of evaluation results.

4. Record training session and disseminate in an online format (i.e. IHS and Web sites of national and regional Indian organizations and partners) for wide accessibility and use by I/T/Us and AI/AN communities.

5. Review, evaluate, and update training content on an on-going basis throughout the funding year to ensure the information continues to meet the needs of the Indian health care system.

B. Create and Disseminate Affordable Care Act/IHCIA Training and Technical Assistance Materials

1. Develop targeted materials for American Indian and Alaska Natives, including special materials for elders and seniors regarding the Affordable Care Act/IHCIA provisions.

2. Write materials in everyday and culturally sensitive language explaining the benefits of the laws, for AI/ANs, including seniors and elders.

3. Create and disseminate complementary training materials (e.g. tools, forms, etc.) for I/T/Us to implement the CAC training and certification process and the Hardship Waiver form for AI/ANs.

4. Create Marketplace implementation and training tools for I/T/U facilities. Materials will be developed specific to the different types of Marketplaces (SBM), SPM, FFM).

5. Create and disseminate additional training and technical assistance materials as needed.

C. Provide Training and Technical Assistance

1. Based on the knowledge and expertise gained in the above activities, provide training and technical assistance across the Indian health care system to assist in planning and implementing Affordable Care Act/IHCIA training with special emphasis on the CAC training and certification process and Hardship Waiver forms to I/T/Us.

2. Identify and provide a forum to share innovative ideas, challenges and solutions for successful Affordable Care Act/IHCIA implementation. Report on Affordable Care Act/IHCIA implementation progress highlighting innovative ideas, challenges and solutions throughout the funding year.

D. Produce Measurable Outcomes Including:

a. Analytical reports, policy reviews and recommended documents—The products will be in the form of written (hard copy and/or electronic files) documents that contain analyses of the listed Affordable Care Act implementation health care issues to be reported at the Quarterly Direct Service Tribes Advisory Meetings and other meetings determined by IHS. Copies of all deliverables shall be submitted to the IHS ODSCT, IHS Office of Resource Access and Partnerships (ORAP) IHS Office of Urban Indian Health Programs; and IHS Senior Advisor to the Director.

b. Disseminate educational and informational materials and communicate to IHS and Tribal health program staff through venues such as National and Regional Health conferences with a Tribal focus, consumer conferences, meetings and training sessions. This can be in the form of PowerPoint presentations, informational brochures, and/or handout materials. The IHS will provide guidance and assistance as needed. Copies of all deliverables shall be submitted to the IHS Office of Direct Service and Contracting Tribes; IHS Office of Resource Access and Partnerships; IHS Office of Urban Indian Health Programs (OUIHP); and IHS Senior Advisor to the Director.

Office of Direct Service and Contracting Tribes (ODSCT)

$600,000—for Conducting Affordable Care Act/IHCIA Education and Outreach Training and Technical Assistance focusing on five consumer groups: (1) Consumers; (2) Tribal Leadership and Membership; (3) Tribal Employers; (4) Indian Health Facility Administrators; and (5) Elders and Seniors.

A. Collaboration and Coordination Ensuring Training and Materials Are Widely Distributed

1. Evaluate all available Affordable Care Act/IHCIA training material available for AI/AN and create additional materials as needed that are related to Affordable Care Act/IHCIA.

2. Record, track, and coordinate information sharing activities (enrollments, trainings, information shared, meetings, updates, etc.) with IHS Offices: ODSCT, ORAP, Office of Urban Indian Health Programs, and 11 IHS Area Offices including Aberdeen Area, Albuquerque Area, Bemidji Area, Billings Area, California Area, Nashville Area, Navajo Area, Oklahoma Area, Phoenix Area, Portland Area and Tucson Area.

3. Record training sessions and describe how they will be made available to the I/T/U and AI/AN community on the Web sites of the national Indian organizations and partners.

4. Describe how to ensure the training curriculum content addresses all new regulations and operations for implementing the Affordable Care Act or IHCIA requirements.

5. Conduct monthly meetings with NIHOE national and regional principals to share information and provide progress reports.

B. Coordinate and Develop a Multiple Strategy Education and Outreach Training Approach for I/T/U.

1. Provide outreach and education training and technical assistance for all AI/AN consumers

2. Provide ongoing AI/AN consumers training on tools developed for state Marketplace implementation.

3. Involvement of community based partners and local leadership from all I/T/U levels is an important factor in the success of any enrollment process, develop a modified training briefs for Tribal Health Directors, Chief Executive Officers, and Tribal Leaders to assist with outreach efforts.

C. Provide Measurable Outcomes and Performance Improvement Activities for Affordable Care Act/IHCIA Outreach and Education Actions

1. Describe the review and approval of the training course evaluation instrument.

2. Establish a baseline for available I/T/U facility's enrollments data and identify challenges and opportunities for outreach and education activities.

D. Work Plan

Describe the activities or steps that will be used to achieve each of the activities proposed during the 12-month budget period.

1. Provide a Work Plan that describes the sequence of specific activities and steps that will be used to carry out each of the objectives.

2. Include a detailed time line that links activities to project objectives for the 12-month budget period.

3. Identify challenges, both opportunities and barriers that are likely to be encountered in designing and implementing the activities and approaches that will be used to address such challenges.

4. Describe communication methods with partners.

E. Provide the outreach and educational training and technical assistance about these Acts and their changes and requirements that will target five consumer groups: (1) Consumers; (2) Tribal Leadership and Membership; (3) Tribal Employers; (4) Indian Health Facility Administrators; and (5) Elders and Seniors regarding the Affordable Care Act and IHCIA.

F. Provide focused Affordable Care Act and IHCIA education that translates in everyday language explaining the benefits of the laws for seniors and elders.

G. Strengthen and unify partnerships to strategically identify and conduct activities that will be implemented throughout the I/T/U community to take full advantage of the implementation and ongoing enrollment processes for health care reform regarding Medicaid expansion revenue opportunities and individual health insurance coverage and choices. Entity may utilize consultant if needed.

Office of Urban Indian Health Program

One Hundred Forty Three Thousand Nine Hundred Twenty Three dollars ($143,923) is identified as a set aside for a sub award to continue Health Reform Progress to Implement the Affordable Care Act and Indian Health Care Improvement Act Outreach, Training and Technical Assistance for Urban Indian Health Organizations.

A. Sub award Project Objectives

1. Develop an Affordable Care Act/IHCIA Training for the Urban Indian Organizations

a. Review, compile and evaluate all available Affordable Care Act/IHCIA training materials specific to urban Indians and report findings as it relates to the urban Indian health care system.

b. Based on findings, develop a “train the trainer” training curriculum for all urban staff that will complement the Federal CAC training and certification process and focus on the Affordable Care Act “Indian” specific provisions and/or IHCIA regulations and the impact on the urban Indian health care system. The training must specifically address the Certified Application Counselor (CAC) and Hardship Waiver requirements.

c. Curriculum training must include an evaluation for content and participant knowledge learning and provide a certificate of completion. A tracking system for the number of certificates awarded will be in place. A preliminary training session will be conducted; attendance will be tracked and submitted along with a summary of evaluation results.

d. Record training sessions and disseminate in an online format (i.e. Web sites of national Indian organizations and partners) for wide accessibility and use by urban Indian communities.

e. Training content must be reviewed, evaluated and updated on an on-going basis throughout the funding year to ensure the information continues to meet the needs of the urban Indian health care system.

2. Create and Disseminate Affordable Care Act/IHCIA Training and Technical Assistance Materials

a. Develop targeted materials for urban Indians, including special materials for elders and seniors regarding the Affordable Care Act/IHCIA provisions.

b. Write materials in everyday language explaining the benefits of the laws, with a special focus on seniors and elders.

c. Create and disseminate complementary training materials (e.g. tools, forms, etc.) for urban Indian health organizations to implement the CAC training and certification process and the Hardship Waiver form for urban Indians.

d. Create and disseminate additional materials as needed.

3. Provide Training and Technical Assistance

a. Based on the knowledge and expertise gained in the above activities, provide training and technical assistance across the urban health care system to assist in planning and implementing Affordable Care Act/IHCIA training with special emphasis on the CAC training and certification process and Hardship Waiver forms.

b. Identify and provide a forum to share innovative ideas, challenges and solutions for successful Affordable Care Act/IHCIA implementation. Reports on Affordable Care Act/IHCIA implementation progress highlighting innovative ideas, challenges and solutions throughout the funding year. The awardee will produce measurable outcomes to include:

i. Analytical reports, policy reviews and recommended documents—The products will be in the form of written (hard copy and/or electronic files) documents that contain analyses of the listed Affordable Care Act implementation health care issues to be reported at the Quarterly Direct Service Tribes Advisory Meetings. A hard copy of all information must be submitted to the Director, OUIHP, IHS.

ii. Disseminate educational and informational materials and communicate to IHS and urban Indian organization staff through venues such as National and Regional Health conferences with a Tribal focus, consumer conferences, meetings and training sessions. This can be in the form of PowerPoint presentations, informational brochures, and/or handout materials. The IHS will provide guidance and assistance as needed. Copies of all deliverables must be submitted to the IHS ODSCT; IHS ORAP; IHS OUIHP; and IHS Senior Advisor to the Director.

4. Collaboration and Coordination To Ensure Training and Materials Are Widely Distributed

a. Evaluate all available Affordable Care Act/IHCIA training material available for AI/AN and create additional materials as needed that are related to Affordable Care Act/IHCIA.

b. Record, track, and coordination information sharing activities (enrollments, trainings, information shared, meetings, updates, etc.) with IHS Offices: ODSCT, ORAP, OUIHP and 11 IHS Area Offices including Aberdeen Area, Albuquerque Area, Bemidji Area, Billings Area, California Area, Nashville Area, Navajo Area, Oklahoma Area, Phoenix Area, Portland Area and Tucson Area.

c. Record training sessions and describe how they will be made available to the urban Indian communities on the Web sites of the national Indian organizations and partners.

d. Describe how to ensure the training curriculum content addresses all new regulations implementing the Affordable Care Act or IHCIA requirements.

e. Participate in monthly meetings with NIHOE national and regional principals to share information and provide progress reports.

5. Coordinate and Develop a Multiple Strategy Education and Outreach Training Approach for Urban Indian Health Organizations

a. Provide outreach and education training and technical assistance for urban Indian consumers

b. Provide ongoing training on tools developed for state Marketplace implementation.

c. Because involvement of community based partners and local leadership from all I/T/U levels is an important factor in the success of any enrollment process, develop modified training briefs for Board of Directors/Trustees, Chief Executive Officers, and other community leaders to assist with outreach efforts.

6. Provide Measurable Outcomes and Performance Improvement Activities for Affordable Care Act/IHCIA Outreach and Education Actions

1. Describe the review and approval of the training course evaluation instrument.

2. Establish baseline data for individual urban Indian facility's enrollments and identify challenges and opportunities for outreach and education activities.

B. Work Plan

Describe the activities or steps that will be used to achieve each of the activities proposed during the 12-month budget period.

1. Provide a Work Plan that describes the sequence of specific activities and steps that will be used to carry out each of the objectives.

2. Include a detailed time line that links activities to project objectives for the 12-month budget period.

3. Identify challenges, both opportunities and barriers that are likely to be encountered in designing and implementing the activities and approaches that will be used to address such challenges.

4. Describe communication methods with partners.

C. Evaluation

1. Provide a plan for assessing the achievement of the project's objectives and for evaluating changes in the specific problems and contributing factors.

2. Identify performance measures by which the project will track its progress over time.

D. Budget

Provide a functional categorically itemized budget and program narrative justification that supports accomplishing the program objectives, activities, and outcomes within the timeframes specified.

III. Eligibility Information

1. Eligibility

Eligible applicants include 501(c)(3) non-profit entities who meet the following criteria.

Eligible applicants that can apply for this funding opportunity are national Indian organizations.

The national Indian organization must have the infrastructure in place to accomplish the work under the proposed program.

Eligible entities must have demonstrated expertise in the following areas:

• Representing all Tribal governments and providing a variety of services to Tribes, Area health boards, Tribal organizations, and Federal agencies, and playing a major role in focusing attention on Indian health care needs, resulting in improved health outcomes for AI/ANs.

• Promoting and supporting Indian health care education, and coordinating efforts to inform AI/AN of Federal decisions that affect Tribal government interests including the improvement of Indian health care.

• Administering national health policy and health programs.

• Maintaining a national AI/AN constituency and clearly supporting critical services and activities within the IHS mission of improving the quality of health care for AI/AN people.

• Supporting improved health care in Indian Country.

• Providing education and outreach on a national scale (the applicant must provide evidence of at least ten years of experience in this area).

Sub Award Eligibility Requirements

If a Primary applicant plans to include Sub-grantees under their project, the Primary applicant is responsible for ensuring that all Sub-grantee applications are completed, signed and submitted along with their Primary application by the deadline date listed in the Key Dates Section of page one of this announcement. The Primary applicant is also responsible for describing what role the Sub-grantee will have in assisting them with completing the goals and objectives of the program.

Flow-Down of Requirements under Subawards and Contracts under Grants:

The terms and conditions in the HHS GPS apply directly to the recipient of HHS funds. The recipient is accountable for the performance of the project, program, or activity; the appropriate expenditure of funds under the award by all parties; and all other obligations of the recipient, as cited in the NoA. In general, the requirements that apply to the recipient, including public policy requirements, also apply to subrecipients and contractors under grants, unless an exception is specified.

Sub Awardee Criteria

A. Sub awardee must be a national Indian organization with the capacity and capability to address the Urban Indian Health activities outlined in this announcement.

B. Sub awardee must have experience and expertise related to addressing Urban Indian health issues.

C. Sub awardee must apply for the $143,923 set aside for addressing the Urban Indian Health activities outlined in this announcement.

D. Sub awardee will implement the Affordable Care Act/IHCIA outreach, training and technical assistance for Urban Indian organizations.

E. Sub awardee will submit its application as part of the Primary applicant's application submission.

F. Sub awardee must provide proof of non-profit status.

G. Sub awardee will be under the oversight of the Primary applicant.

H. Sub awardee must provide its DUNS number to the prime grantee.

Primary Awardee Criteria

A. Primary Awardee must report information on sub award in compliance with the Federal Funding Accountability and Transparency Act of 2006 as amended.

B. Primary Awardee must notify potential sub awardee that no entity may receive a first-tier subaward unless the entity has provided its DUNS number to the primary grantee organization.

Note: Please refer to Section IV.2 (Application and Submission Information/Subsection 2, Content and Form of Application Submission) for additional proof of applicant status documents required such as Tribal resolutions, proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Proof of Non-Profit Status Organizations claiming non-profit status must submit proof. A copy of the 501(c)(3) Certificate must be received with the application submission by the Application Deadline Date listed under the Key Dates section on page one of this announcement.

Letters of Intent will not be required under this funding opportunity announcement.

An applicant submitting any of the above additional documentation after the initial application submission due date is required to ensure the information was received by the IHS by obtaining documentation confirming delivery (i.e. FedEx tracking, postal return receipt, etc.).

IV. Application and Submission Information

1. Obtaining Application Materials

The application package and detailed instructions for this announcement can be found at http://www.Grants.gov or https://www.ihs.gov/dgm/index.cfm?module=dsp_dgm_funding

Questions regarding the electronic application process may be directed to Mr. Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed five pages).

• Project Narrative (must be single spaced and not exceed ten pages for each of the three components).

○ Background information on the organization.

○ Proposed scope of work, objectives, and activities that provide a description of what will be accomplished, including a one-page Timeframe Chart.

• 501(c)(3) Certificate (if applicable).

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required) in order to receive IDC.

• Organizational Chart (optional).

• Documentation of current Office of Management and Budget (OMB) A-133 required Financial Audit (if applicable).

Acceptable forms of documentation include:

○ Email confirmation from Federal Audit Clearinghouse (FAC) that audits were submitted; or

○ Face sheets from audit reports. These can be found on the FAC Web site: http://harvester.census.gov/sac/dissem/accessoptions.html?submit=Go+To+Database

Public Policy Requirements

All Federal-wide public policies apply to IHS grants with exception of the Discrimination policy.

Requirements for Project and Budget Narratives

A. Project Narrative: This narrative should be a separate Word document that is no longer than ten pages for each of the three components for a total of 30 pages: ORAP: $300,000 for Implementation of the Affordable Care Act Training and Technical Assistance; ODSCT: $600,000 Conduct Affordable Care Act/IHCIA Education and Outreach Training and Technical Assistance; and OUIHP: $143,923 is set aside for a sub award to implement the Affordable Care Act/IHCIA outreach, training and technical assistance for Urban Indian organizations. Project narrative must: be single-spaced, be type written, have consecutively numbered pages, use black type not smaller than 12 characters per one inch, and be printed on one side only of standard size 8½″ x 11″ paper.

Be sure to succinctly answer all questions listed under the evaluation criteria (refer to Section V.1, Evaluation criteria in this announcement) and place all responses and required information in the correct section (noted below), or they will not be considered or scored. These narratives will assist the Objective Review Committee (ORC) in becoming more familiar with the grantee's activities and accomplishments prior to this grant award. If the narrative exceeds the page limit, only the first ten pages of each component will be reviewed. The ten-page limit for each component of the narrative does not include the work plan, standard forms, table of contents, budget, budget justifications, narratives, and/or other appendix items.

There are three parts to the narrative: Part A—Program Information; Part B—Program Planning and Evaluation; and Part C—Program Report. See below for additional details about what must be included in the narrative.

Part A: Program Information (4 page limitation for each component)

Section 1: Needs

Describe how national Indian organization(s) has the experience to provide outreach and education efforts regarding the pertinent changes and updates in health care listed herein.

Part B: Program Planning and Evaluation (4 page limitation for each component)

Section 1: Program Plans

Describe fully and clearly the direction the national Indian organization plans to address the NIHOE III requirements, including how the national Indian organization plans to demonstrate improved health education and outreach services to all 566 Federally-recognized Tribes and/or Urban Indian communities that include the elderly and senior citizens. Include proposed timelines as appropriate and applicable.

Section 2: Program Evaluation

Describe fully and clearly how the outreach and education efforts will impact changes in knowledge and awareness in Tribal and urban communities to encourage appropriate changes by increasing knowledge and awareness resulting in informed choices. Identify anticipated or expected benefits for the Tribal constituency and/or urban communities.

Part C: Program Report (2 page limitation for each component)

Section 1: Describe major accomplishments over the last 24 months. Identify and describe significant program achievements associated with the delivery of quality health outreach and education. Provide a comparison of the actual accomplishments to the goals established for the project period, or if applicable, provide justification for the lack of progress.

Section 2: Describe major activities over the last 24 months.

Identify and summarize recent major health related outreach and education project activities of the work performed during the last project period that includes the elderly/senior citizens, if applicable.

B. Budget Narrative: This narrative must describe the budget requested and match the scope of work described in the project narrative. The page limitation should not exceed five pages. This applies to the Primary Applicant as well as the Sub Award Applicant.

3. Submission Dates and Times

Applications must be submitted electronically through Grants.gov by 12:00 a.m., midnight Eastern Daylight Time (EDT) on the Application Deadline Date listed in the Key Dates section on page one of this announcement. Any application received after the application deadline will not be accepted for processing, nor will it be given further consideration for funding. The applicant will be notified by the DGM via email of this decision.

If technical challenges arise and assistance is required with the electronic application process, contact Grants.gov Customer Support via email to support@grants.gov or at (800) 518-4726. Customer Support is available to address questions 24 hours a day, 7 days a week (except on Federal holidays). If problems persist, contact Mr. Paul Gettys, DGM (Paul.Gettys@ihs.gov) at (301) 443-2114. Please be sure to contact Mr. Gettys at least ten days prior to the application deadline. Please do not contact the DGM until you have received a Grants.gov tracking number. In the event you are not able to obtain a tracking number, call the DGM as soon as possible.

If the applicant needs to submit a paper application instead of submitting electronically via Grants.gov, prior approval must be requested and obtained (see Section IV.6 below for additional information). The waiver must be documented in writing (emails are acceptable), before submitting a paper application. A copy of the written approval must be submitted along with the hardcopy that is mailed to the DGM. Once the waiver request has been approved, the applicant will receive a confirmation of approval and the mailing address to submit the application. Paper applications that are submitted without a waiver from the Acting Director of DGM will not be reviewed or considered further for funding. The applicant will be notified via email of this decision by the Grants Management Officer of DGM. Paper applications must be received by the DGM no later than 5:00 p.m., EDT, on the Application Deadline Date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. If a Primary applicant plans to include Sub-grantees under their project, the Primary applicant is responsible for ensuring that all Sub-grantee applications are completed, signed and submitted along with their Primary application by the deadline date listed in the Key Dates Section of page one of this announcement. The Primary applicant is also responsible for describing what role the Sub-grantee will have in assisting them with completing the goals and objectives of the program. Electronic copies of the application may not be submitted as attachments to email messages addressed to IHS employees or offices.

If the applicant receives a waiver to submit paper application documents, they must follow the rules and timelines that are noted below. The applicant must seek assistance at least ten days prior to the Application Deadline Date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to the DGM by the Application Deadline Date listed in the Key Dates section on page one of this announcement.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this Funding Announcement.

• After electronically submitting the application, the applicant will receive an automatic acknowledgment from Grants.gov that contains a Grants.gov tracking number. The DGM will download the application from Grants.gov and provide necessary copies to the appropriate agency officials. Neither the DGM nor the ODSCT will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration (CCR) and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: https://www.ihs.gov/dgm/index.cfm?module=dsp_dgm_policy_topics.

V. Application Review Information

The instructions for preparing the application narrative also constitute the evaluation criteria for reviewing and scoring the application. Weights assigned to each section are noted in parentheses. The ten page narrative per each component should include only one year of activities. The narrative section should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:

1. Criteria

A. Introduction and Need for Assistance (15 points)

1. Describe the individual entity's and/or partnering entities' (as applicable) current health, education and technical assistance operations as related to the broad spectrum of health needs of the AI/AN community. Include what programs and services are currently provided (i.e., Federally funded, State funded, etc.), any memorandums of agreement with other National, Area or local Indian health board organizations, HHS' agencies that rely on the applicant as the primary gateway organization that is capable of providing the dissemination of health information, information regarding technologies currently used (i.e., hardware, software, services, etc.), and identify the source(s) of technical support for those technologies (i.e., in-house staff, contractors, vendors, etc.). Include information regarding how long the applicant has been operating and its length of association/partnerships with Area health boards, etc. [historical collaboration].

2. Describe the organization's current technical assistance ability. Include what programs and services are currently provided, programs and services projected to be provided, etc.

3. Describe the population to be served by the proposed project. Include a description of the number of Tribes and Tribal members who currently benefit from the technical assistance provided by the applicant.

4. State how previous cooperative agreement funds facilitated education, training and technical assistance nation-wide for AI/ANs and relate the progression of health care information delivery and development relative to the current proposed project. (Copies of reports will not be accepted.)

5. Describe collaborative and supportive efforts with national, Area and local Indian health boards.

6. Describe how the project relates to the purpose of the cooperative agreement by addressing the following: Identify how the proposed project will address the changes and requirements of the Acts.

B. Project Objective(s), Work Plan and Approach (45 points)

1. Proposed project objectives must be:

a. Measurable and (if applicable) quantifiable.

b. Results oriented.

c. Time-limited.

2. Submit a work-plan in the appendix which includes the following information:

a. Provide the action steps on a timeline for accomplishing the proposed project objective(s).

b. Identify who will perform the action steps.

c. Identify who will supervise the action steps taken.

d. Identify what tangible products will be produced during and at the end of the proposed project objective(s).

e. Identify who will accept and/or approve work products during the duration of the proposed project and at the end of the proposed project.

f. Include any training that will take place during the proposed project and who will be attending the training.

g. Include evaluation activities planned.

3. If consultants or contractors will be used during the proposed project, please include the following information in their scope of work (or note if consultants/contractors will not be used):

a. Educational requirements.

b. Desired qualifications and work experience.

c. Expected work products to be delivered on a timeline.

d. If a potential consultant/contractor has already been identified, please include a resume in the Appendix.

C. Program Evaluation (15 points)

Each proposed objective requires an evaluation component to assess its progression and ensure its completion. Also, include the evaluation activities in the work-plan. Describe the proposed plan to evaluate both outcomes and process. Outcome evaluation relates to the results identified in the objectives, and process evaluation relates to the work-plan and activities of the project.

1. For outcome evaluation, describe:

a. What the criteria will be for determining success of each objective.

b. What data will be collected to determine whether the objective was met.

c. At what intervals will data be collected.

d. Who will collect the data and their qualifications.

e. How the data will be analyzed.

f. How the results will be used.

2. For process evaluation, describe:

a. How the project will be monitored and assessed for potential problems and needed quality improvements.

b. Who will be responsible for monitoring and managing project improvements based on results of ongoing process improvements and their qualifications.

c. How ongoing monitoring will be used to improve the project.

d. Any products, such as manuals or policies, that might be developed and how they might lend themselves to replication by others.

3. How the project will document what is learned throughout the project period. Describe any evaluation efforts that are planned to occur after the grant periods ends.

4. Describe the ultimate benefit for the AI/ANs that will be derived from this project.

D. Organizational Capabilities, Key Personnel and Qualifications (15 points)

1. Describe the organizational structure of the organization.

2. Describe the ability of the organization to manage the proposed project. Include information regarding similarly sized projects in scope and financial assistance as well as other cooperative agreements/grants and projects successfully completed.

3. Describe what equipment (i.e., fax machine, phone, computer, etc.) and facility space (i.e., office space) will be available for use during the proposed project.

4. List key personnel who will work on the project. Include title used in the work-plan. In the appendix, include position descriptions and resumes for all key personnel. Position descriptions should clearly describe each position and duties, indicating desired qualifications and experience requirements related to the proposed project. Resumes must indicate that the proposed staff member is qualified to carry out the proposed project activities. If a position is to be filled, indicate that information on the proposed position description.

E. Categorical Budget and Budget Justification (10 points)

1. Provide a categorical budget for 12-month budget period requested.

2. If indirect costs are claimed, indicate and apply the current negotiated rate to the budget. Include a copy of the rate agreement in the appendix.

3. Provide a narrative justification explaining why each line item is necessary/relevant to the proposed project. Include sufficient cost and other details to facilitate the determination of cost allowability (i.e., equipment specifications, etc.).

Appendix Items

• Work plan, logic model and/or timeline for proposed objectives.

• Position descriptions for key staff.

• Resumes of key staff that reflect current duties.

• Consultant or contractor proposed scope of work and letter of commitment (if applicable).

• Current Indirect Cost Agreement.

• Organizational chart

• Additional documents to support narrative (i.e. data tables, key news articles, etc.).

2. Review and Selection

Each application will be prescreened by the DGM staff for eligibility and completeness as outlined in the funding announcement. Incomplete applications and applications that are non-responsive to the eligibility criteria will not be referred to the ORC. Applicants will be notified by DGM, via email, to outline minor missing components (i.e., signature on the SF-424, audit documentation, key contact form) needed for an otherwise complete application. All missing documents must be sent to DGM on or before the due date listed in the email of notification of missing documents required.

To obtain a minimum score for funding by the ORC, applicants must address all program requirements and provide all required documentation. If an applicant receives less than a minimum score, it will be considered to be “Disapproved” and will be informed via email by the IHS Program Office of their application's deficiencies. A summary statement outlining the strengths and weaknesses of the application will be provided to each disapproved applicant. The summary statement will be sent to the Authorized Organizational Representative that is identified on the face page (SF-424), of the application within 30 days of the completion of the Objective Review.

VI. Award Administration Information

1. Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 60 points, and were deemed to be disapproved by the ORC, will receive an Executive Summary Statement from the IHS program office within 30 days of the conclusion of the ORC outlining the weaknesses and strengths of their application submitted. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of FY 2013, the approved application may be re-considered by the awarding program office for possible funding. The applicant will also receive an Executive Summary Statement from the IHS program office within 30 days of the conclusion of the ORC.

Note: Any correspondence other than the official NoA signed by an IHS Grants Management Official announcing to the Project Director that an award has been made to their organization is not an authorization to implement their program on behalf of IHS.

2. Administrative Requirements

Cooperative agreements are administered in accordance with the following regulations, policies, and OMB cost principles:

A. The criteria as outlined in this Program Announcement.

B. Administrative Regulations for Grants:

• 45 CFR part 92, Uniform Administrative Requirements for Grants and Cooperative Agreements to State, Local and Tribal Governments.

• 45 CFR part 74, Uniform Administrative Requirements for Awards and Subawards to Institutions of Higher Education, Hospitals, and other Non-profit Organizations.

C. Grants Policy:

• HHS Grants Policy Statement, Revised 01/07.

D. Cost Principles:

• 2 CFR part 225—Cost Principles for State, Local, and Indian Tribal Governments (OMB Circular A-87).

• 2 CFR part 230—Cost Principles for Non-Profit Organizations (OMB Circular A-122).

E. Audit Requirements:

• OMB Circular A-133, Audits of States, Local Governments, and Non-profit Organizations.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) http://www.doi.gov/ibc/services/Indirect_Cost_Services/index.cfm. For questions regarding the indirect cost policy, please call (301) 443-5204 to request assistance.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) the imposition of special award provisions; and (2) the non-funding or non-award of other eligible projects or activities. This requirement applies whether the delinquency is attributable to the failure of the grantee organization or the individual responsible for preparation of the reports. Reports must be submitted electronically via GrantSolutions. Personnel responsible for submitting reports will be required to obtain a login and password for GrantSolutions. Please see the Agency Contacts list in section VII for the systems contact information.

The reporting requirements for this program are noted below.

A. Progress Reports

Program progress reports are required semi-annually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that the applicant also send a copy of the FFR (SF-425) report to the Grants Management Specialist. Failure to submit timely reports may cause a disruption in timely payments to the organizations.

Grantees are responsible and accountable for accurate information being reported on all required reports: the Progress Reports and Federal Financial Report.

C. Federal Subaward Reporting System (FSRS)

This award may be subject to the Transparency Act subaward and executive compensation reporting requirements of 2 CFR part 170.

The Transparency Act requires the OMB to establish a single searchable database, accessible to the public, with information on financial assistance awards made by Federal agencies. The Transparency Act also includes a requirement for recipients of Federal grants to report information about first-tier subawards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 subaward obligation dollar threshold met for any specific reporting period. Additionally, all new (discretionary) IHS awards (where the project period is made up of more than one budget period) and where: 1) the project period start date was October 1, 2010 or after and 2) the primary awardee will have a $25,000 subaward obligation dollar threshold during any specific reporting period will be required to address the FSRS reporting. For the full IHS award term implementing this requirement and additional award applicability information, visit the Grants Management Grants Policy Web site at: https://www.ihs.gov/dgm/index.cfm?module=dsp_dgm_policy_topics.

Telecommunication for the hearing impaired is available at: TTY (301) 443-6394.

VII. Agency Contacts

1. Questions on the programmatic issues may be directed to:

Mr. Chris Buchanan, Director, ODSCT, 801 Thompson Avenue, Suite 220, Rockville, Maryland 20852, Telephone: (301) 443-1104, Fax: (301) 443-4666, E-Mail: Chris.Buchanan@ihs.gov.

2. Questions on grants management and fiscal matters may be directed to:

Mr. Andrew Diggs, Grants Management Specialist, 801 Thompson Avenue, TMP Suite 360, Rockville, Maryland 20852, Telephone: (301) 443-5204, Fax: (301) 443-9602, E-Mail: Andrew.Diggs@ihs.gov.

3. Questions on systems matters may be directed to:

Mr. Paul Gettys, Grant Systems Coordinator, 801 Thompson Avenue, TMP Suite 360, Rockville, MD 20852, Phone: (301) 443-2114; or the DGM main line (301) 443-5204, Fax: (301) 443-9602, E-Mail: Paul.Gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Date: August 16, 2013.
Yvette Roubideaux,
Acting Director, Indian Health Service.

[FR Doc. 2013-20535 Filed 8-22-13; 8:45 am]

BILLING CODE 4165-16-P